DEPARTMENT OF AGRICULTURE

Animal and Plant Health Inspection Service

7 CFR Part 301

[Docket No. 01-054-2]

Phytophthora Ramorum; Quarantine and Regulations

AGENCY: Animal and Plant Health Inspection Service, USDA.

ACTION: Interim rule and notice of public hearings; correction.

SUMMARY: In an interim rule published in the Federal Register and effective on February 14, 2002, we amended the domestic quarantine regulations by quarantining 10 counties in the State of California and a portion of 1 county in the State of Oregon because of the presence of Phytophthora ramorum and by regulating the interstate movement of regulated and restricted articles from the quarantined area. The interim rule contained errors in the Supplementary Information section and in the rule portion. This document corrects those errors.

EFFECTIVE DATE: February 14, 2002.

FOR FURTHER INFORMATION CONTACT: Mr. Jonathan Jones, Operations Officer, Invasive Species and Pest Management, PPQ, APHIS, 4700 River Road Unit 134, Riverdale, MD 20737; (301) 734-8247.

SUPPLEMENTARY INFORMATION: In an interim rule published in the Federal Register on February 14, 2002 (67 FR 6827-6837, Docket No. 01-054-1), we amended the domestic quarantine regulations in 7 CFR part 301 by adding a subpart, “Phytophthora Ramorum” (§§ 301.92 through 301.92-10, referred to below as the regulations). The regulations quarantine portions of the States of California and Oregon because of Phytophthora ramorum and restrict the interstate movement of regulated and restricted articles from quarantined areas.

P. ramorum is a harmful fungus that has been found in several hosts, including manzanita (Arctostaphylos manzanita). In the Supplementary Information section and the rule portion of the interim rule, we incorrectly listed all species of Arctostaphylos as regulated and restricted articles by identifying manzanita as Arctostaphylos spp. Therefore, in order for the regulations to accurately identify this specific host, we are correcting the errors in the rule portion of the interim rule by replacing Arctostaphylos spp. with Arctostaphylos manzanita.

In FR Doc. 02-3721, published on February 14, 2002 (67 FR 6827-6837), make the following corrections:

PART 301—[CORRECTED]

1. On page 6835, in the first column, in § 301.92-2, in paragraphs (a)(1) and (b)(1), correct “(Arctostaphylos spp.),” to read “(Arctostaphylos manzanita),”.

2. On page 6837, in the first column, in § 301.92-10, in paragraph (b), correct “(Arctostaphylos spp.),” to read “(Arctostaphylos manzanita),”.

Done in Washington, DC, this 19th day of March, 2002.
W. Ron DeHaven,
Acting Administrator, Animal and Plant Health Inspection Service.

[FR Doc. 02-7110 Filed 3-22-02; 8:45 am]

BILLING CODE 3410-34-U